DEPARTMENT OF HEALTH AND HUMAN SERVICES

Substance Abuse and Mental Health Services Administration

Center for Substance Abuse Prevention; Notice of Meeting

Pursuant to Public Law 92-463, notice is hereby given for the meeting of the Substance Abuse and Mental Health Services Administration's (SAMHSA) Center for Substance Abuse Prevention National Advisory Council (CSAP NAC) on February 24, 2021.

The Council was established to advise the Secretary, Department of Health and Human Services (HHS); the Assistant Secretary for Mental Health and Substance Use, SAMHSA; and Director, CSAP concerning matters relating to the activities carried out by and through the Center and the policies respecting such activities.

The meeting will be open to the public and will include the discussion of substance use prevention priorities. The meeting will also include updates on CSAP program developments.

The meeting will be held via webcast and phone only. Attendance by the public on-site will not be available. Interested persons may present data, information, or views, orally or in writing, on issues pending before the Council. Written submissions should be forwarded to the contact person on or before one week prior to the meeting. Oral presentations from the public will be scheduled at the conclusion of the meeting. Individuals interested in making oral presentations should notify the contact on or before one week prior to the meeting. Up to five minutes will be allotted for each presentation.

To participate in the meeting, submit written or brief oral comments, or request special accommodations for persons with disabilities, please register at the SAMHSA Committees' website, https://snacregister.samhsa.gov/MeetingList.aspx, or communicate with the CSAP Council's Designated Federal Officer (see contact information below).

Substantive program information may be obtained after the meeting by accessing the SAMHSA Committee website, https://www.samhsa.gov/about-us/advisory-councils, or by contacting the Designated Federal Officer.

Committee Name: Substance Abuse and Mental Health Services Administration, Center for Substance Abuse Prevention National Advisory Council.

Date/Time/Type: February 24, 2021, from 1:00 p.m. to 5:00pm EST: (OPEN).

Place: SAMHSA, 5600 Fishers Lane, Rockville, MD 20852. Adobe Connect webcast: please register at the SAMHSA Committees' website, listed above.

Contact: Matthew J. Aumen, Designated Federal Officer, SAMHSA CSAP NAC, 5600 Fishers Lane, Rockville, MD 20852, Telephone: 240-276-2440, Fax: 301-480-8480, Email: matthew.aumen@samhsa.hhs.gov.

Dated: February 4, 2021.
Carlos Castillo,
Committee Management Officer, SAMHSA.

[FR Doc. 2021-02717 Filed 2-9-21; 8:45 am]

BILLING CODE 4162-20-P